DEPARTMENT OF ENERGY

Federal Energy Regulatory Commission

Combined Notice of Filings #1

Take notice that the Commission received the following electric rate filings:

Docket Numbers: ER09-1549-003; ER10-426-004; ER09-172-007; ER09-173-007; ER06-1355-007; ER09-174-006; ER11-2201-001

Applicants: First Wind Energy Marketing, LLC

Description: Supplemental Information to Triennial Market-Based Rate Update Filings of First Wind Energy, LLC.

Filed Date: 03/31/2011

Accession Number: 20110331-5330

Comment Date: 5 p.m. Eastern Time on Thursday, April 21, 2011

Docket Numbers: ER10-1508-002

Applicants: Tampa Electric Company

Description: Tampa Electric Company submits tariff filing per 35: Compliance Filing—Available Transfer Capability (ATC) to be effective 3/30/2011.

Filed Date: 03/31/2011

Accession Number: 20110331-5268

Comment Date: 5 p.m. Eastern Time on Thursday, April 21, 2011

Docket Numbers: ER10-3168-001

Applicants: ArcLight Energy Marketing, LLC

Description: ArcLight Energy Marketing, LLC Notice of Non-Material Change in Status.

Filed Date: 03/31/2011

Accession Number: 20110331-5258

Comment Date: 5 p.m. Eastern Time on Thursday, April 21, 2011

Docket Numbers: ER11-2046-002

Applicants: MATEP LLC

Description: MATEP LLC submits tariff filing per 35: MATEP Second Substitute MBR Tariff to be effective 3/2/2011.

Filed Date: 03/31/2011

Accession Number: 20110331-5310

Comment Date: 5 p.m. Eastern Time on Thursday, April 21, 2011

Docket Numbers: ER11-2530-002

Applicants: Pacific Gas and Electric Company

Description: Pacific Gas and Electric Company submits tariff filing per 35: Errata to Correct Compliance Filing: SVP IA to be effective 2/28/2011.

Filed Date: 03/31/2011

Accession Number: 20110331-5318

Comment Date: 5 p.m. Eastern Time on Thursday, April 21, 2011

Docket Numbers: ER11-2588-002

Applicants: Power Receivable Finance, LLC

Description: Power Receivable Finance, LLC submits tariff filing per 35: PRF Second Substitute MBR Tariff to be effective 2/28/2011.

Filed Date: 03/31/2011

Accession Number: 20110331-5311

Comment Date: 5 p.m. Eastern Time on Thursday, April 21, 2011

Docket Numbers: ER11-2715-001

Applicants: Interstate Power and Light Company

Description: Interstate Power and Light Company submits tariff filing per 35.17(b): IPL O & T Agreement—Updated Exhibits 1, 2 and 5 to be effective 3/21/2011.

Filed Date: 03/31/2011

Accession Number: 20110331-5316

Comment Date: 5 p.m. Eastern Time on Thursday, April 21, 2011

Docket Numbers: ER11-3254-000

Applicants: Nevada Power Company

Description: Nevada Power Company submits tariff filing per 35.15: Rate Schedule No. 52 Cancellation to be effective 6/1/2011.

Filed Date: 03/31/2011

Accession Number: 20110331-5221

Comment Date: 5 p.m. Eastern Time on Thursday, April 21, 2011

Docket Numbers: ER11-3255-000

Applicants: Westar Energy, Inc.

Description: Westar Energy, Inc. submits tariff filing per 35.13(a)(2)(iii): KEPCo, Changes to Attachment F to be effective 6/1/2011.

Filed Date: 03/31/2011

Accession Number: 20110331-5225

Comment Date: 5 p.m. Eastern Time on Thursday, April 21, 2011

Docket Numbers: ER11-3256-000

Applicants: Midwest Independent Transmission System Operator, Inc., ALLETE, Inc.

Description: Midwest Independent Transmission System Operator, Inc. submits tariff filing per 35.13(a)(2)(iii): Allete-Bison LGIAs filing to be effective 4/1/2011.

Filed Date: 03/31/2011

Accession Number: 20110331-5249

Comment Date: 5 p.m. Eastern Time on Thursday, April 21, 2011

Docket Numbers: ER11-3257-000

Applicants: Southwest Power Pool, Inc.

Description: Southwest Power Pool, Inc. submits tariff filing per 35.13(a)(2)(iii): 1822R2 Kanas Power Pool NITSA and NOAS to be effective 3/1/2011.

Filed Date: 03/31/2011

Accession Number: 20110331-5257

Comment Date: 5 p.m. Eastern Time on Thursday, April 21, 2011

Docket Numbers: ER11-3258-000

Applicants: New England Power Company

Description: New England Power Company submits tariff filing per 35.1: Construction Service Agreement between NEP and Peabody Municipal Light Plant to be effective 3/31/2011.

Filed Date: 03/31/2011

Accession Number: 20110331-5266

Comment Date: 5 p.m. Eastern Time on Thursday, April 21, 2011

Docket Numbers: ER11-3259-000

Applicants: Westar Energy, Inc.

Description: Westar Energy, Inc. submits tariff filing per 35.13(a)(2)(iii): Missouri Joint Municipal Electric Utility Commission Balancing Area Services to be effective 3/1/2011.

Filed Date: 03/31/2011

Accession Number: 20110331-5314

Comment Date: 5 p.m. Eastern Time on Thursday, April 21, 2011

Docket Numbers: ER11-3260-000

Applicants: New England Power Pool Participants Committee

Description: New England Power Pool Participants Committee submits tariff filing per 35.13(a)(2)(iii): April 2011 Membership Filing to be effective 3/1/2011.

Filed Date: 03/31/2011

Accession Number: 20110331-5321

Comment Date: 5 p.m. Eastern Time on Thursday, April 21, 2011

Docket Numbers: ER11-3261-000

Applicants: Southwest Power Pool, Inc.

Description: Southwest Power Pool, Inc. submits tariff filing per 35.13(a)(2)(iii): 1066R3 Northeast Texas Electric Coop. NITSA NOA to be effective 3/1/2011.

Filed Date: 03/31/2011

Accession Number: 20110331-5324

Comment Date: 5 p.m. Eastern Time on Thursday, April 21, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: April 01, 2011.
Nathaniel J. Davis, Sr.,
Deputy Secretary.

[FR Doc. 2011-8371 Filed 4-6-11; 8:45 am]

BILLING CODE 6717-01-P